DEPARTMENT OF TRANSPORTATION

14 CFR Part 71

[Airspace Docket No. 99-AGL-53]

Modification of Class E Airspace; Bemidji, MN; Correction

AGENCY: Federal Aviation Administration (FAA), DOT.

ACTION: Final rule; correction.

SUMMARY: This action corrects an error in the final rule that was published in the Federal Register on Wednesday, February 2, 2000 (65 FR 4872), Airspace Docket No. 99-AGL-53. The final rule modified Class E Airspace at Bemedji, MN.

EFFECTIVE DATE: 0901 UTC, April 20, 2000.

FOR FURTHER INFORMATION CONTACT: Denis C. Burke, Air Traffic Division, Airspace Branch, AGL-520, Federal Aviation Administration, 2300 East Devon Avenue, Des Plaines, IL 60018, telephone: (847) 294-7477.

SUPPLEMENTARY INFORMATION:

History

Federal Register Document 00-2256, Airspace Docket No. 99-AGL-53, published on February 2, 2000 (65 FR 4872), modified Class E Airspace at Bemidji, MN. An incorrect spelling of Bemidji was published in the legal description for the Class E airspace for Bemidji, MN. This action corrects that error.

Correction to Final Rule

Accordingly, pursuant to the authority delegated to me, the error for the class E airspace, Bemidji, MN, as published in the Federal Register February 2, 2000 (65 FR 4872), (FR Doc. 00-2256), is corrected as follows:

§ 71.1 [Corrected]

1. On page 4873, Column 2, in the airspace description for Bemidji, MN, incorporated by reference in § 71.1, lines 1 and 2 and 16, correct “Bemidiji-Beltrami” to read “Bemidji-Beltrami”.

Issued in Des Plaines, IL on March 15, 2000.
Christopher R. Blum,
Manager, Air Traffic Division.

[FR Doc. 00-7343 Filed 3-24-00; 8:45 am]

BILLING CODE 4910-13-M